ENVIRONMENTAL PROTECTION AGENCY

[ER-FRL-6674-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in the Federal Register dated April 7, 2006 (71 FR 17845).

Draft EISs

EIS No. 20050410, ERP No. D-COE-E34031-FL, Central and Southern Florida Project, Comprehensive Everglades Restoration Plan, Implementation, Everglades Agricultural Area Storage Reservoirs, Palm Beach County, FL.

Summary: EPA is fully supportive of the construction and operation of Everglades Agricultural Area Storage Reservoirs as a vital Comprehensive Everglades Restoration Plan component. However, EPA expressed environmental concerns about water quality, and requested that the Final EIS include additional water quality documentation, modeling and monitoring.

Rating EC1.

EIS No. 20050448, ERP No. D-BLM-J65455-MT, Upper Missouri River Breaks National Monument Resource Management Plan, Implementation, Blaine, Chouteau, Fergus and Phillips Counties, MT.

Summary: EPA expressed environmental concerns about potential impacts to water quality and aquatic habitat wildlife habitat and ecosystem processes, historic and cultural resources.

Rating EC2.

EIS No. 20050462, ERP No. D-IBR-K39095-CA, South Delta Improvements Program, To Improve Water Quality, Water Conveyance, and Fish Habitat Conditions, Central Valley Project, U.S. Army COE Section 404 Permit, South Sacramento-San Joaquin River Delta, Several Counties, CA.

Summary: EPA expressed environmental concerns about effects of Stage 1 on implementation of Clean Water Act Total Maximum Daily Load (TMDL) measures to improve water quality, and recommended establishment of a water quality monitoring and assessment program and that increased export pumping not be initiated until after the stage 2 operations decision.

Rating EC2.

EIS No. 20050538, ERP No. D-AFS-K65295-CA, Horse Heli Project, Harvest Merchantable Timber, Thin Stands, Treat Fuels, and Conduct Associated Activities, Klamath National Forest, Oak Knoll Ranger District, Siskiyou County, CA.

Summary: EPA expressed environmental concerns about the potential for cumulative effects to the watershed, including non-target species and aquatic resource.

Rating EC2.

EIS No. 20060014, ERP No. D-NPS-F61023-OH, Dayton Aviation Heritage National Historical Park, General Management Plan Amendment, Implementation, Dayton, OH.

Summary: EPA expressed has environmental concerns about impacts to air quality, water quality, and wetlands, and requested additional information be included in the Final EIS.

Rating EC2.

EIS No. 20060015, ERP No. D-AFS-K65297-CA, Kirkwood Mountain Resort, Proposed 2003 Mountain Master Development Plan, Implementation, Eldorado National Forest, Amador, Alpine and EL Dorado Counties, CA.

Summary: EPA expressed environmental concerns about cumulative effects to the watershed and impacts to water resources, air quality, as well as traffic, and noise.

Rating EC2.

EIS No. 20060027, ERP No. D-AFS-K65298-CA, Kings River Project, Proposal to Restore Historical Pre-1850 Forest Conditions, Implementation, High Sierra Ranger District, Sierra National Forest, Fresno County, CA.

Summary: EPA expressed environmental concerns because the proposed action increases the potential for adverse impacts to aquatic and late successional forest species, including a trend towards federal listing for the Federal candidate Yosemite toad.

Rating EC2.

EIS No. 20050516, ERP No. DS-SFW-F64005-00, Upper Mississippi River National Wildlife and Fish Refuge, Comprehensive Conservation Plan, A New Alternative E: Modified Wildlife and Integrated Public Use, Implementation, MN, WI, IL and IA.

Summary: EPA does not object to the proposed action.

Rating LO.

EIS No. 20060025, ERP No. DS-AFS-F65034-WI, Northwest Howell Vegetation Management Project, New Information to Address Inadequate Disclosure of the Cumulative Effects Analysis for Six Animal and Two Plant Species, Eagle River-Florence Ranger District, Chequamegon-Nicole National Forest, Florence and Forest Counties, WI.

Summary: EPA expressed environmental concern about cumulative impacts from pesticide use, invasive species, disturbance during nesting and breeding seasons, and fragmentation to wildlife, and their habitat.

Rating EC2.

Final EISs

EIS No. 20060003, ERP No. F-AFS-J65425-00, Black Hills National Forest Land and Resource Management Plan Phase II Amendment, Proposal to Amend the 1997 Land and Resource Management Plan, Custer, Fall River, Lawrence, Meade and Pennington Counties, SD and Crook and Weston Counties, WY.

Summary: EPA continues to have environmental concerns about adverse impacts to water quality, impacts from runoff and soil erosion, and to fish and wildlife habitat.

EIS No. 20060021, ERP No. F-AFS-J65356-UT, Quitchupah Creek Road Project, Public Road Construction to Provide Access from UT-10 to the Acord Lakes Road, Application for Right-of-Way Grant, Fishlake National Forest, Sevier County Special Services District (SSD), Sevier and Emery Counties, UT.

Summary: The final EIS did include a monitoring plan and additional mitigation measures to address objections raised by EPA with erosion and impacts to water quality, but EPA continues to have concerns with the potential impacts to water quality from both the old roads and new roads from this project.

EIS No. 20060031, ERP No. F-NPS-B65012-ME, Schoodic General Management Plan Amendment, Implementation, Acadia National Park, ME.

Summary: EPA does not object to the proposed project.

EIS No. 20060033, ERP No. F-FRA-K53011-CA, Los Angeles Union Station Run-Through Tracks Project, Pedestrian Access Improvements, Connectivity and Increase the Capacity, City Los Angeles, Los Angeles County, CA.

Summary: EPA continues to express environmental concerns about particulate matter less than 2.5 microns in diameter (PM2.5) and requested mitigation to reduce these diesel-related emissions.

EIS No. 20060057, ERP No. F-NPS-F65047-OH, Fallen Timbers Battlefield and Fort Miamis National Historic Site, General Management Plan, Implementation, Lucas County, OH.

Summary: The Final EIS addresses the recommendations EPA made on reducing the spread of invasive plants species and the use of native plants in landscape design, therefore, EPA has no objections to the proposed project.

EIS No. 20060070, ERP No. F-AFS-L65465-OR, Tamarack Quarry Expansion Project, Secure a Long-Term Economical Source of Rock Material to Use for Highway and Road Maintenance, Mt. Hood National Forest, Clackamas County, OR.

Summary: EPA does not object to the proposed project.

EIS No. 20060079, ERP No. F-FHW-F40417-WI, WI-83 Highway Improvements, County NN in Mukwonago to WI-16 in Hartland, Funding and U.S. Army COE Section 404 Permit Issuance, Waukesha County, WI.

Summary: EPA continues to express environmental concerns that wetland impacts have not been adequately mitigated and requested that addition mitigation be provided.

EIS No. 20060087, ERP No. F-AFS-F65059-IL, Shawnee National Forest Trails Designation Project, Phase 1, Designation, Construction and Maintenance for Trail System within Four Watershed: Eagle Creek, Big Grand Pierre Creek, Lusk Creek and Upper Bay Creek, Hidden Springs Ranger District, Gallatin, Hardin, Johnson, Pope and Saline Counties, IL.

Summary: The Final EIS adequately addressed EPA's concerns with trail density standards, seasonal and wet-weather closures, and the impacts to water quality; therefore, EPA does not object to the proposed project.

EIS No. 20060092, ERP No. F-AFS-J65417-MT, Frenchtown Face Ecosystem Restoration Project, Maintenance and Improvement of Forest Health, Risk Reduction of Damage Insects and Disease, Lolo National Forest, Ninemile Ranger District, Missoula, MT.

Summary: EPA continues to express environmental concerns about potential adverse impacts from roads, OHV use, grazing and oil and gas development to water quality, aquatic resources and the protection of unique cultural and natural resources.

EIS No. 20060130, ERP No. F-COE-K40260-CA, Adoption—CA-905 Freeway or Tollway Construction Project Route Location, Adoption and Construction, Otay Mesa Port of Entry to I-805, Funding and U.S. Army COE Section 404 Permit Issuance, San Diego County, CA.

Summary: EPA continues to express environmental concerns about impacts to waters of the U.S., and requested additional avoidance and minimization of water impacts.

EIS No. 20060030, ERP No. FA-COE-F28000-IL, Sugar Creek Municipal Water Supply, Updated Information, Proposed New 1172 Acre Water Supply Reservoir, Construction, COE Section 404 Permit Issuance, City of Marion, Williamson and Johnson Counties, IL.

Summary: EPA expressed environmental concerns about water quality impacts, cumulative and indirect impacts, and costs, and suggested that these issues be addressed prior to issuance of a Record of Decision.

EIS No. 20050553, ERP No. FS-STB-J53005-00, Powder River Basin Expansion Project, New Information, Addressing Four Environmental Issues Remanded by the 8th Circuit Court of Appeals, Finance Docket No. 33407—Dakota, Minnesota, Eastern Railroad, SD, WY and MN.

Summary: EPA continues to express environmental concerns about aquatic resource/wetland impacts and the proposed mitigation strategies.

Dated: April 18, 2006.
Robert W. Hargrove,
Director, NEPA Compliance Division, Office of Federal Activities.

[FR Doc. 06-3828 Filed 4-20-06; 8:45 am]

BILLING CODE 6560-50-P